DEPARTMENT OF THE TREASURY

Internal Revenue Service

Proposed Collection; Requesting Comments on Form 1041

AGENCY: Internal Revenue Service (IRS), Treasury.

ACTION: Notice and request for comments.

SUMMARY: The Internal Revenue Service, as part of its continuing effort to reduce paperwork and respondent burden, invites the general public and other federal agencies to take this opportunity to comment on proposed and/or continuing information collections, as required by the Paperwork Reduction Act of 1995. The IRS is soliciting comments concerning Form 1041, U.S. Income Tax Return for Estates and Trusts, and related Schedules D, I, J, K-1, and Form 1041-V.

DATES: Written comments should be received on or before July 31, 2023 to be assured of consideration.

ADDRESSES: Direct all written comments to Andres Garcia, Internal Revenue Service, Room 6526, 1111 Constitution Avenue NW, Washington, DC 20224, or by email to pra.comments@irs.gov. Include OMB Control No. 1545-0092 in the subject line of the message.

FOR FURTHER INFORMATION CONTACT: Requests for additional information or copies of this collection should be directed to Jon Callahan, (737) 800-7639, at Internal Revenue Service, Room 6526, 1111 Constitution Avenue NW, Washington, DC 20224, or through the internet at jon.r.callahan@irs.gov.

SUPPLEMENTARY INFORMATION: The IRS is currently seeking comments concerning the following information collection tools, reporting, and record-keeping requirements:

Title: U.S. Income Tax Return for Estates and Trusts.

OMB Number: 1545-0092.

Form Number: Form 1041 and associated schedules.

Abstract: Internal Revenue Code section 6012 requires that an annual income tax return be filed for estates and trusts. The IRS uses the data to determine that the estates, trusts, and beneficiaries filed the proper returns and paid the correct tax.

Current Actions: There are changes to the existing collection. (1) Form 1041 removed lines for obsolete credits, added lines for new credits, and separated checkboxes and sublines into separate lines for clarity; (2) obsolete information collections were removed; and (3) the estimated number of responses was updated to reflect current filings and future estimates.

Type of Review: Revision of a currently approved collection.

Affected Public: Businesses or other for-profits; and Individuals and households.

Estimated Number of Responses: 11,330,423.

Estimated Time per Respondent: 31 hours, 30 minutes.

Estimated Total Annual Burden Hours: 356,948,857.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: May 24, 2023.
Jon R. Callahan,
Tax Analyst.

[FR Doc. 2023-11424 Filed 5-26-23; 8:45 am]

BILLING CODE 4830-01-P